DEPARTMENT OF STATE

[Public Notice: 9497]

Notice of Availability of the Draft Supplemental Environmental Assessment and Draft Finding of No Significant Impact for the NuStar Dos Laredos Pipeline Presidential Permit Application Review

AGENCY: Department of State.

ACTION: Notice of availability, solicitation of comments.

SUMMARY: The U.S. Department of State (Department) announces availability of the “Draft Supplemental Environmental Assessment” (Draft SEA) and “Draft Finding of No Significant Impact for the NuStar Dos Laredos Pipeline Presidential Permit Application Review” (Draft FONSI) for public review and comment. These documents analyze the potential environmental effects of issuing a Presidential Permit to NuStar Logistics, L.P. (NuStar) to amend the 2003 Presidential Permit issued to Valero Logistics Operations, L.P. to construct, connect, operate, and maintain transboundary pipeline facilities (Dos Laredos Pipeline). The Dos Laredos Pipeline Draft SEA and Draft FONSI were prepared consistent with the National Environmental Policy Act (NEPA) of 1969 (42 U.S.C. Section 4321, et seq.), the regulations of the Council on Environmental Quality (CEQ) (40 CFR parts 1500-1508), and the Department's implementing regulations (22 CFR part 161). They evaluate the potential environmental impacts of a change in operations of the existing 10.6 miles of 8 and 5/8 inch outer diameter pipeline and associated facilities (e.g., mainline valves) near Laredo, TX.

DATES: The Department invites the public, governmental agencies, tribal governments, and all other interested parties to provide comments on the Draft SEA and Draft FONSI during the 30-day public comment period. The public comment period starts on March 24, 2016, with the publication of this Federal Register Notice and will end April 25, 2016.

All comments received during the review period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

ADDRESSES: Comments on the Draft SEA and Draft FONSI may be submitted at www.regulations.gov by entering the title of this Notice into the search field and following the prompts. Comments may also be submitted by mail, addressed to: Dos Laredos Project Manager, Office of Environmental Quality and Transboundary Issues (OES/EQT): Room 2726, U.S. Department of State, 2201 C Street NW., Washington, DC 20520. All comments from agencies or organizations should indicate a contact person for the agency or organization.

FOR FURTHER INFORMATION CONTACT: Project details for the Dos Laredos Pipeline and the Presidential Permit Application, as well as information on the Presidential Permit process are available on the following Web site: http://www.state.gov/e/enr/applicant/applicants/c61192.htm. Please refer to this Web site or contact the Department at the address listed in the ADDRESSES section of this notice.

SUPPLEMENTARY INFORMATION: The Department evaluates Presidential permit applications under Executive Order (E.O.) 13337 and E.O. 14432. E.O. 13337 delegates to the Secretary of State the President's authority to receive applications for permits for the construction, connection, operation, or maintenance of facilities for the exportation or importation of petroleum, petroleum products, coal, or other fuels (except for natural gas), at the borders of the United States, and to issue or deny such Presidential Permits upon a national interest determination.

NuStar applied for a Presidential Permit on December 4, 2013 to amend the 2003 Presidential Permit issued to Valero Logistics Operations, L.P. to construct, connect, operate, and maintain transboundary pipeline facilities between the United States and Mexico approximately six miles northwest of downtown Laredo, Texas at a location on the Rio Grande River knows as “La Bota.” NuStar requests a new Presidential Permit that: (1) Reflects NuStar's name change from Valero Logistics Operations, L.P. to NuStar Logistics, L.P., as the owner and operator of the Dos Laredos Pipeline crossing the international boundary; and (2) permits the transportation in either direction across the international border of a broader range of products. The 2003 Presidential Permit only allows shipment of liquefied petroleum gas (LPG). NuStar is now also seeking to transport other specifically defined petroleum products, including diesel.

Availability of the Draft Sea and FONSI: Copies of the Draft SEA and Draft FONSI have been distributed to state and governmental agencies, tribal governments and other interested parties. Printed copies of the document may be obtained by visiting the Laredo Public Library or by contacting the Dos Laredos Project Manager at the above address. The Draft SEA and Draft FONSI are available on the project Web site at http://www.state.gov/e/enr/applicant/applicants/c61192.htm.

Deborah Klepp,
Director, Office of Environmental Quality and Transboundary, Issues, Department of State.

[FR Doc. 2016-06694 Filed 3-23-16; 8:45 am]

BILLING CODE 4710-09-P